Title 3—

The President

Proclamation 8214 of December 27, 2007

To Adjust the Rules of Origin Under the United States-Chile Free Trade Agreement and the United States-Singapore Free Trade Agreement

By the President of the United States of America

A Proclamation

1. Section 1206(a) of the Omnibus Trade and Competitiveness Act of 1988 (the “1988 Act”) (19 U.S.C. 3006(a)) authorizes the President to proclaim modifications to the Harmonized Tariff Schedule of the United States (HTS) based on the recommendations of the U.S. International Trade Commission (the “Commission”) under section 1205 of the 1988 Act (19 U.S.C. 3005), if he determines that the modifications are in conformity with United States obligations under the International Convention on the Harmonized Commodity Description and Coding System (the “Convention”) and do not run counter to the national economic interest of the United States. In 2006, the Commission recommended modifications to the HTS pursuant to section 1205 of the 1988 Act to conform the HTS to amendments made to the Convention. In Presidential Proclamation 8097 of December 29, 2006, I modified the HTS pursuant to section 1206 of the 1988 Act to conform the HTS to the amendments to the Convention.

2. Presidential Proclamation 7746 of December 30, 2003, implemented the United States-Chile Free Trade Agreement (USCFTA) with respect to the United States and, pursuant to section 201 of the United States-Chile Free Trade Agreement Implementation Act (the “USCFTA Act”) (19 U.S.C. 3805 note), the staged reductions in rates of duty that I determined to be necessary or appropriate to carry out or apply articles 3.3 (including the schedule of United States duty reductions with respect to originating goods set forth in Annex 3.3 to the USCFTA), 3.7, 3.9, and 3.20(8), (9), (10), and (11) of the USCFTA.

3. In order to ensure the continuation of the staged reductions in rates of duty for originating goods from Chile in categories that were modified to conform to the Convention, I proclaimed in Presidential Proclamation 8097 modifications to the HTS that I determined were necessary or appropriate to carry out the duty reductions proclaimed in Proclamation 7746.

4. Chile is a party to the Convention. Because the substance of changes to the Convention are reflected in slightly differing form in the national tariff schedules of the parties to the USCFTA, the rules of origin set out in Annex 4.1 of that Agreement must be changed to ensure that the tariff and certain other treatment accorded under the USCFTA to originating goods will continue to be provided under the tariff categories that were modified in Proclamation 8097. The USCFTA parties have agreed to make these changes.

5. Section 202 of the USCFTA provides certain rules for determining whether a good is an originating good for the purposes of implementing tariff treatment under the USCFTA. Section 202(o) of the USCFTA Act authorizes the President to proclaim the rules of origin set out in the USCFTA and any subordinate tariff categories necessary to carry out the USCFTA, subject to the exceptions stated in section 202(o)(2)(A).

6. I have determined that the modifications to the HTS proclaimed pursuant to section 202 of the USCFTA Act and section 1206(a) of the 1988 Act are necessary or appropriate to ensure the continuation of tariff and certain other treatment accorded originating goods under tariff categories modified in Proclamation 8097 and to carry out the duty reductions proclaimed in Proclamation 7746.

7. Presidential Proclamation 7747 of December 30, 2003, implemented the United States-Singapore Free Trade Agreement (USSFTA) with respect to the United States and, pursuant to section 201 of the United States-Singapore Free Trade Agreement Implementation Act (the “USSFTA Act”) (19 U.S.C. 3805 note), the staged reductions in rates of duty that I determined necessary or appropriate to carry out or apply articles 2.2, 2.5, 2.6, and 2.12 of the USSFTA and the schedule of reductions with respect to the United States set forth in Annex 2B of the USSFTA.

8. In order to ensure the continuation of the staged reductions in rates of duty for originating goods from Singapore in categories that were modified to conform to the Convention, in Presidential Proclamation 8097, I proclaimed modifications to the HTS that I determined were necessary or appropriate to carry out the duty reductions proclaimed in Proclamation 7747.

9. Singapore is a party to the Convention. Because the substance of the changes to the Convention are reflected in slightly differing form in the national tariff schedules of the parties to the USSFTA, the provisions set out in Annexes 3A and 3B of that Agreement must be changed to ensure that the tariff and certain other treatment accorded under the USSFTA to originating goods will continue to be provided under the tariff categories that were modified in Presidential Proclamation 8097. The USSFTA parties have agreed to make these changes.

10. Section 202 of the USSFTA Act provides certain rules for determining whether a good is an originating good for the purposes of implementing tariff treatment under the USSFTA. Section 202(o) of the USSFTA Act authorizes the President to proclaim the rules of origin set out in the USSFTA and any subordinate tariff categories necessary to carry out the USSFTA, subject to certain exceptions set out in section 202(o)(2)(A).

11. I have determined that the modifications to the HTS proclaimed pursuant to section 202 of the USSFTA Act are necessary or appropriate to ensure that the tariff and certain other treatment accorded originating goods under tariff categories modified in Proclamation 8097 and to carry out the duty reductions proclaimed in Proclamation 7747.

12. Section 604 of the Trade Act of 1974, as amended (the “Trade Act”) (19 U.S.C. 2483), authorizes the President to embody in the HTS the substance of the provisions of that Act, and of other Acts, affecting import treatment, and actions thereunder, including the removal, modification, continuance, or imposition of any rate of duty or other import restriction. Section 1206(c) of the 1988 Act, as amended (19 U.S.C. 3006(c)), provides that any modifications proclaimed by the President under section 1206(a) of that Act may not take effect before the thirtieth day after the date on which the text of the proclamation is published in the Federal Register.

NOW, THEREFORE, I, GEORGE W. BUSH, President of the United States of America, acting under the authority vested in me by the Constitution and the laws of the United States of America, including but not limited to section 1206(a) of the 1988 Act, section 202 of the USSFTA Act, section 202 of the USCFTA Act, and section 604 of the Trade Act, do proclaim that:

(1) In order to reflect in the HTS the modifications to the rules of origin under the USCFTA, general note 26 to the HTS is modified as provided in Annex I to this proclamation.

(2) In order to reflect in the HTS the modifications to the rules of origin under the USSFTA, general note 25 to the HTS is modified as provided in Annex II to this proclamation.

(3) Any provisions of previous proclamations and Executive Orders that are inconsistent with the actions taken in this proclamation are superseded to the extent of such inconsistency.

(4) The modifications and technical rectifications to the HTS set forth in Annexes I and II to this proclamation shall be effective with respect to goods entered, or withdrawn from warehouse for consumption, on or after the later of (i) February 1, 2008, or (ii) the thirtieth day after the date of publication of this proclamation in the Federal Register.

IN WITNESS WHEREOF, I have hereunto set my hand this twenty-seventh day of December, in the year of our Lord two thousand seven, and of the Independence of the United States of America the two hundred and thirty-second.

Billing code 3195-01-P

[FR Doc. 08-39

Filed 1-7-08; 8:45 am]

Billing code 7020-02-P-C